NATIONAL AERONAUTICS AND SPACE ADMINSTRATION

[Notice 05-078]

NASA Aeronautical Technologies Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Aeronautical Technologies Strategic Roadmap Committee.

DATES: Thursday, May 26, 2005, 8 a.m. to 5 p.m., Friday, May 27, 2005, 8 a.m. to 5 p.m. Eastern Standard Time.

ADDRESSES: Renaissance Mayflower Hotel, 1127 Connecticut Avenue NW., Washington, DC 20036.

FOR FURTHER INFORMATION CONTACT: Yuri Gawdiak, 202-358-1853.

SUPPLEMENTARY INFORMATION: The meeting will be open to the public up to the seating capacity of the meeting room. Attendees will be requested to sign a register.

The agenda for the meeting is as follows:

• Criteria Survey Review Results.

• Portfolio Workshop Review Results.

• Sensitivity Analysis Review Results.

• External Partnership Road Map Requirements.

• Deliberations on Strategic Road Map Revisions.

It is imperative that the meeting be held on these dates to accommodate the scheduling priorities of the key participants.

Dated: April 19, 2005.
P. Diane Rausch,
Advisory Committee Management Officer, National Aeronautics and Space Administration.

[FR Doc. 05-8230 Filed 4-22-05; 8:45 am]

BILLING CODE 7510-13-P